NUCLEAR REGULATORY COMMISSION

[Docket No. 72-1050; NRC-2016-0231]

Interim Storage Partners Consolidated Interim Storage Facility Project

AGENCY: Nuclear Regulatory Commission.

ACTION: Environmental impact statement; issuance.

SUMMARY: The U.S. Nuclear Regulatory Commission (NRC) is issuing its final Environmental Impact Statement (FEIS) for Interim Storage Partners' (ISP's) license application to construct and operate a consolidated interim storage facility (CISF) for spent nuclear fuel (SNF) and Greater-Than-Class C (GTCC) waste, along with a small quantity of mixed oxide (MOX) fuel. The proposed CISF would be located on an approximately 130-hectare (320-acre) site, within the approximately 5,666-hectare (14,000-acre) Waste Control Specialists (WCS) site in Andrews County, Texas. The proposed action is the issuance of an NRC license authorizing a CISF to store up to 5,000 metric tons of uranium (MTUs) [5,500 short tons] of SNF for a license period of 40 years.

DATES: The FEIS referenced in this document is available on August 6, 2021.

ADDRESSES: Please refer to Docket ID NRC-2016-0231 when contacting the NRC about the availability of information regarding this document. You may obtain publicly available information related to this document using any of the following methods:

• Federal Rulemaking Website: Go to https://www.regulations.gov and search for Docket ID NRC-2016-0231. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The FEIS is available in ADAMS under Accession No. ML21209A955.

• Project Webpage: Information related to the ISP CISF project can be accessed on the NRC's project web page at https://www.nrc.gov/waste/spent-fuel-storage/cis/waste-control-specialist.html.

• Public Libraries: A copy of the FEIS will be made available at the following public libraries:

Andrews County Library, 109 NM 1st Street, Andrews, TX 79714. | Gaines County Library, 704 Hobbs Hwy, Seminole, TX 79360.
Hobbs Public Library, 509 N Shipp Street, Hobbs, NM 88240. | Winkler County Library, 307 S Poplar Street, Kermit, TX 79745.
Eunice Public Library, 1003 Ave. N, Eunice, NM 88231. | Yoakum County Library, 205 W 4th Street, Denver City, TX 7932.

• Attention: The PDR, where you may examine and order copies of public documents, is currently closed. You may submit your request to the PDR via email at pdr.resource@nrc.gov or call1-800-397-4209 or 301-415-4737, between 8:00 a.m. and 4:00 p.m. (ET), Monday through Friday, except Federal holidays.

FOR FURTHER INFORMATION CONTACT: James R. Park, Office of Nuclear Material Safety and Safeguards, U.S. Nuclear Regulatory Commission, Washington, DC 20555-0001, telephone: 301-415-6954, email: James.Park@nrc.gov.

SUPPLEMENTARY INFORMATION:

I. Background

In accordance with section 51.118 of title 10 of the Code of Federal Regulations (10 CFR), the NRC is making available the FEIS for the license application submitted by ISP to construct and operate a CISF for SNF and GTCC waste, along with a small quantity of MOX fuel, which are collectively referred to in the EIS as SNF, and composed primarily of spent uranium-based fuel. The NRC published the draft EIS in the Federal Register on May 8, 2020 (85 FR 27447), and the Environmental Protection Agency noticed the availability of the draft EIS on May 8, 2020 (85 FR 27412). The public comment period on the draft EIS ended on November 3, 2020, and the comments received are addressed in the FEIS. The FEIS is available as indicated in the ADDRESSES section of this document.

II. Discussion

The NRC is issuing the FEIS for an application from ISP requesting a license to authorize construction and operation of a CISF for SNF at the WCS site in Andrews County, Texas. ISP's proposed location for its CISF is on an approximately 130-hectare (320-acre) site, within the approximately 5,666-hectare (14,000-acre) WCS site in Andrews County, Texas. The proposed action is the issuance of an NRC license authorizing a CISF to store up to 5,000 MTUs [5,500 short tons] of SNF for a license period of 40 years.

The FEIS is being issued as part of the NRC's process to decide whether to issue a license to ISP pursuant to 10 CFR part 72. In this FEIS, the NRC staff has assessed the potential environmental impacts to construct and operate the proposed CISF. The NRC staff assessed the impacts of the proposed action and the No-Action alternative on land use; transportation; geology and soils; water resources; ecological resources; air quality; noise; historical and cultural resources; visual and scenic resources; socioeconomics; environmental justice, public and occupational health, and waste management. Additionally, the FEIS analyzes and compares the benefits and costs of the proposed action and the No-Action alternative. In preparing this FEIS, the NRC staff also considered, evaluated, and addressed the public comments received on the draft EIS. Appendix D of the FEIS summarizes the public comments received and the NRC's responses.

After comparing the impacts of the proposed action to those of the No-Action alternative, the NRC staff, in accordance with the requirements in part 51 of 10 CFR, recommends the proposed action, subject to the determinations in the staff's safety review of the application. This recommendation is based on (i) the ISP license application, which includes an environmental report and supplemental documents, and ISP's responses to the NRC staff's requests for additional information; (ii) the NRC staff's consultation with Federal, State, tribal, local agencies, and input from other stakeholders, including members of the public; (iii) the NRC staff's independent review; and (iv) the NRC staff's assessments provided in the FEIS.

Dated: July 29, 2021.
For the Nuclear Regulatory Commission.
John R. Tappert,
Director, Division of Rulemaking, Environmental, and Financial Support, Office of Nuclear Material Safety and Safeguards.

[FR Doc. 2021-16553 Filed 8-5-21; 8:45 am]

BILLING CODE 7590-01-P